DEPARTMENT OF HEALTH AND HUMAN SERVICES

Centers for Disease Control and Prevention

[30Day-12-11AN]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an email to omb@cdc.gov. Send written comments to CDC Desk Officer, Office of Management and Budget, Washington, DC 20503 or by fax to (202) 395-5806. Written comments should be received within 30 days of this notice.

Proposed Project

Asthma Education Study: Making Health Care Providers Better Asthma Educators—New-National Center for Environmental Health (NCEH) and Agency for Toxic Substances and Disease Registry (ATSDR)/Centers for Disease Control and Prevention (CDC).

Background and Brief Description

The Department of Health and Human Services (HHS), Centers for Disease Control and Prevention (CDC) reports that 17.5 million non-institutionalized adults have asthma. In addition, 7.1 million children in this country have the disorder. Asthma accounts for 17 million health care visits and more than 3,400 deaths per year. All of these data are for the United States. Except for a few cases linked to occupational exposures, the causes of asthma remain unknown, and there exists no cure. In the absence of means to eliminate the disorder, treatment to minimize the frequency and intensity of asthmatic attacks is of paramount importance. Several tools are available, including the use of corticosteroids and control of exposure to allergens and irritants, collectively known as “triggers.” Thus, treatment of asthma is important and patients must take action at appropriate times. From this, it follows that the education provided by health care providers to asthmatic patients forms a critical link in efforts to control asthma. CDC and the National Institutes of Health recommend the use of written asthma action plans to guide patient self-management of the disorder. Some states have also developed tools. In the case of Minnesota, this is an interactive program on the Internet.

Anecdotal evidence suggests that there is substantial variability in the use of available tools for developing written asthma action plans. Similarly, patient education appears to vary in type and amount. Some causes of this are suspected: Billing codes for asthma education are not universally present and the degree of health literacy among patients varies and is likely not universally sufficient. Nevertheless, in large part, the factors influencing asthma education by health care providers are unknown. To help address this situation, the Air Pollution and Respiratory Health Branch of CDC wishes to conduct a study to identify barriers to, and facilitators of, asthma education among health care providers consistent with National Asthma Education and Prevention Program (NAEPP)/National Heart, Lung, and Blood Institute Expert Panel Report 3: Guidelines for the Diagnosis and Management of Asthma.

Close to 25 million Americans currently suffer with asthma, with 12 million experiencing an asthma “attack” in 2009, costing the nation $56 billion and individuals on average over $3,200 annually in direct and indirect costs. Improved self-management education, consistent with the NIH/NAEPP guidelines, for enhancing education of persons with asthma in the areas of correct medication adherence and avoidance of environmental triggers of asthma attacks, is central to reducing the health burden and financial burden on individuals and the nation. This research is an important step in improving the education individuals with asthma (or parents of children with asthma) receive at their initial diagnosis encounter with the medical system. As such it is expected to improve proper medication adherence and avoidance of environmental triggers of an asthma attack and in turn to be of use to the government in reducing both the medical and financial burden of asthma on the nation. In this aspect, this research is directly in line with both the mission of the CDC National Asthma Control Program, its funder, which seeks to achieve reductions in deaths and hospitalizations and increases in self-management education for individuals with asthma and that Program's Government Performance and Results Act Performance Measure: Increase the proportion of those with current asthma who report they have received self-management training for asthma in populations served by CDC funded state asthma control programs. The research project is also in alignment with Healthy People 2020 objectives including reducing asthma deaths (objective RD-1), reducing hospitalizations for asthma (objective RD-2), reducing hospital emergency department visits for asthma (objective RD-3), reducing activity limitations among persons with asthma (objective RD-4), reducing the number of school or work days missed by persons with asthma because of asthma (objective RD-5), increasing the proportion of persons with asthma who receive formal patient education (objective RD-6), and increasing the proportion of persons with asthma who receive appropriate asthma care according to the NAEPP guidelines (objective RD-7). There are no costs to the respondents other than their time. The total estimated annual burden hours are 40 hours total.

Estimated Annualized Burden Hours
Type of respondent | Form name | Number of respondents | Number of responses per respondent | Average burden per response (in hours)
Physician and Nurse | Screener | 48 | 1 | 5/60
Physician | Interview | 24 | 1 | 30/60
Nurse | Focus Group | 24 | 1 | 1

Dated: December 14, 2011.
Daniel Holcomb,
Reports Clearance Officer, Centers for Disease Control and Prevention.

[FR Doc. 2011-32497 Filed 12-19-11; 8:45 am]

BILLING CODE 4163-18-P